DEPARTMENT OF DEFENSE

Department of the Navy

Notice of Availability of the Draft Environmental Impact Statement/Overseas Environmental Impact Statement for Point Mugu Sea Range

AGENCY: Department of the Navy, DoD.

ACTION: Notice.

SUMMARY: Pursuant to Section 102(2)(C) of the National Environmental Policy Act (NEPA) of 1969, as implemented by the Council on Environmental Quality, and Presidential Executive Order 12114, the Department of the Navy (DON) has prepared and filed the Point Mugu Sea Range (PMSR) Draft Environmental Impact Statement/Overseas Environmental Impact Statement (EIS/OEIS) with the United States Environmental Protection Agency. The PMSR Draft EIS/OEIS evaluates the potential environmental consequences associated with conducting military readiness activities within the PMSR, which include testing (research, development, acquisition, testing and evaluation (RDAT&E)) and training activities analyzed in the March 2002 PMSR Final EIS/OEIS and environmental assessments (EAs) completed since 2002. The Draft EIS/OEIS also evaluates proposed increases in military testing and training tempo at the PMSR to fully support current, emerging, and foreseeable future RDAT&E and Fleet training requirements.

DATES: The 45-day public comment period begins April 24, 2020 and ends June 8, 2020. All public comments are due by June 8, 2020. Due to current Federal and State guidance on social distancing in response to COVID-19, the Navy will not hold in-person public meetings during the Draft EIS/OEIS public comment period.

ADDRESSES: Written comments may be submitted by mail to the address in the FOR FURTHER INFORMATION CONTACT section or submitted electronically via the project website at: https://www.pmsr-eis.com. All comments submitted during the 45-day public comment period will become part of the public record, and substantive comments will be considered in the Final EIS/OEIS. All comments must be postmarked or received online by June 8, 2020, for consideration in the Final EIS/OEIS. Federal, state, and local agencies and officials, American Indian tribal governments, and other interested organizations and individuals are encouraged to provide substantive comments on the Draft EIS/OEIS during the 45-day public comment period.

FOR FURTHER INFORMATION CONTACT: Naval Air Warfare Center Weapons Division Range Sustainability Office, Point Mugu Sea Range, Building 53A, Room 106G, Code EB2R00M, 575 I Avenue, Suite 1, Attn: EIS/OEIS Project Manager, Point Mugu, CA 93042-5049, 888-238-2375, info@pmsr-eis.com, or project website: https://www.pmsr-eis.com.

SUPPLEMENTARY INFORMATION: The DON's action proponent is Naval Air Warfare Center Weapons Division (NAWCWD) Point Mugu and the National Marine Fisheries Service is a cooperating agency. The PMSR is located adjacent to Los Angeles, Ventura, Santa Barbara, and San Luis Obispo counties along the Pacific Coast of Southern California and includes 36,000 square miles of controlled sea and airspace designated for testing and training activities.

The purpose of the proposed action described in the Draft EIS/OEIS is to provide modern instrumented airspace, sea space, testing and training areas, testing and training facilities, and range infrastructure to fully support current, emerging, and foreseeable future testing and training requirements; and to ensure the long-term viability of the PMSR. The need for the proposed action is to allow for continued testing and training in support of military readiness and DoD mission requirements as required by Title 10 and to provide combat ready forces.

The DON distributed the Draft EIS/OEIS to federal agencies and federally recognized tribes with which the DON is consulting and to other stakeholders. The DON provided press releases to the local newspapers and distributed letters and postcards to stakeholders, Native American Tribes, and other interested parties. Copies of the Draft EIS/OEIS are available for public review at the following public libraries:

1. Camarillo Public Library, 4101 Las Posas Road, Camarillo, CA 93010-2539.

2. Carpinteria Branch Library, 5141 Carpinteria Avenue, Carpinteria, CA 93013-2048.

3. E.P. Foster Library, 651 E Main Street, Ventura, CA 93001-2814.

4. San Luis Obispo Library, 995 Palm Street, San Luis Obispo, CA 93401-3218.

5. Santa Barbara Public Library, 40 E Anapamu Street, Santa Barbara, CA 93101-2722.

6. South Oxnard Branch Library, 4300 Saviers Road, Oxnard, CA 93033-7129.

7. Oxnard Downtown Main Library, 251 S A Street, Oxnard, CA 93030-5742.

Depending upon COVID-19 conditions regulating access to public facilities, it is recommended to check with the library regarding its hours of operation and the availability of the document. The PMSR Draft EIS/OEIS is also available for electronic viewing or download at https://www.pmsr-eis.com. A compact disc of the Draft EIS/OEIS will be made available upon written request by contacting: Commander, Naval Air Warfare Center Weapons Division Range Sustainability Office, Point Mugu Sea Range, Building 53A, Room 106G, Code EB2R00M, 575 I Avenue, Suite 1, Attn: EIS/OEIS Project Manager, Point Mugu, CA 93042-5049, 888-238-2375, info@pmsr-eis.com, or project website: https://www.pmsr-eis.com.

Dated: April 20, 2020.
D.J. Antenucci,
Commander, Judge Advocate General's Corps, U.S. Navy, Federal Register Liaison Officer.

[FR Doc. 2020-08681 Filed 4-23-20; 8:45 am]

BILLING CODE 3810-FF-P